COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be furnished by nonprofit agencies employing persons who are blind or have other severe disabilities, and deletes products and a service previously furnished by such agencies.

DATES: Comments must be received on or before: 6/12/2016.

ADDRESSES: Committee for Purchase From People Who Are Blind or Severely Disabled, 1401 S. Clark Street, Suite 715, Arlington, Virginia, 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Facility Maintenance Service

Mandatory For: U.S. Coast Guard, Shore Facilities and Coast Guard Cutter Cheboygan, MI

Mandatory Source(s) of Supply: Grand Traverse Industries, Inc., Traverse City, MI

Contracting Activity: USCG, 1301 Clay Street, Suite 801N, Oakland, CA

Service Type: Engineering and Environmental Service

Mandatory for: U.S. Air Force, 61st Civil Engineer & Logistics Squadron, Los Angeles Air Force Base, 43 North Aviation Boulevard, El Segundo, CA

Mandatory Source(s) of Supply: PRIDE Industries, Roseville, CA

Contracting Activity: Dept of the Air Force, FA2816 SMC PKO, El Segundo, CA

Service Type: Custodial and Related Service

Mandatory for: GSA PBS Region 5, SSA Federal Building, 611 E. Genesee Avenue, Saginaw, MI

Mandatory Source(s) of Supply: SVRC Industries, Inc., Saginaw, MI

Contracting Activity: GSA, Public Buildings Service, Acquisition Management Division, Dearborn, MI

Deletions

The following products and service are proposed for deletion from the Procurement List:

Products

NSN(s)—Product Name(s): 3990-00-NSH-0065—Skid, Wood

Contracting Activity: Government Printing Office, Washington, DC

NSN(s)—Product Name(s):

6532-00-083-6534—Gown, Operating, Surgical

6532-00-083-6535—Gown, Operating, Surgical

6532-00-083-6536—Gown, Operating, Surgical

6532-00-104-9895—Gown, Hospital

Mandatory Source(s) of Supply: Unknown

Contracting Activity: Defense Logistics Agency Troop Support

Service

Service Type:

Toner Cartridge Remanufacturing

Malmstrom Air Force Base

Malmstrom AFB, MT

Mandatory Source(s) of Supply: Community Option Resource Enterprises, Inc., (COR Enterprises), Billings, MT

Contracting Activity: Dept of the Air Force, FA7014 AFDW PK

Barry S. Lineback,
Director, Business Operations.

[FR Doc. 2016-11330 Filed 5-12-16; 8:45 am]

BILLING CODE 6353-01-P